DEPARTMENT OF THE INTERIOR

Office of the Secretary

[156D0102DM; DLSN0000.000000; DS62400000; DX62401]

Renewal of Information Collection: OMB Control Number 1084-0010, Claim for Relocation Payments—Residential, DI-381 and Claim for Relocation Payments—Nonresidential, DI-382

AGENCY: Office of Acquisition and Property Management, Office of the Secretary, Department of the Interior.

ACTION: Notice and request for comments.

SUMMARY: In compliance with the Paperwork Reduction Act of 1995, the Office of Acquisition and Property Management has submitted a request for renewal of approval of this information collection to the Office of Management and Budget (OMB), and requests public comments on this submission.

DATES: OMB has up to 60 days to approve or disapprove the information collection request, but may respond after 30 days; therefore, public comments should be submitted to OMB by October 16, 2015, in order to be assured of consideration.

ADDRESSES: Send your written comments by facsimile (202) 395-5806 or email (OIRA_Submission@omb.eop.gov) to the Office of Information and Regulatory Affairs, Office of Management and Budget, Attention: Department of the Interior Desk Officer (1084-0010). Also, please send a copy of your comments to Mary Heying, Department of the Interior, Office of Acquisition and Property Management, 1849 C St. NW., MS 4262 MIB, Washington, DC 20240, fax (202) 513-7645 or by email to mary_heying@ios.doi.gov.

FOR FURTHER INFORMATION CONTACT: Requests for additional information on this proposed information collection or its Relocation Forms should be directed to the contact information provided in the ADDRESSES section above. You may also review the information collection request online at http://www.reginfo.gov/public/do/PRAMain.

SUPPLEMENTARY INFORMATION:

I. Abstract

This notice is for renewal of an existing information collection.

Public law 91-646, Uniform Relocation Assistance and Real Property Acquisition Policies Act of 1970, as amended, requires each Federal agency acquiring real estate interests to provide relocation benefits to individuals and businesses displaced as a result of the acquisition. Form DI-381, Claim For Relocation Payments—Residential, and DI-382, Claim For Relocation Payments—Nonresidential, permit the applicant to present allowable moving expenses and certify occupancy status, after having been displaced because of Federal acquisition of their real property.

As required under 5 CFR 1320.8(d), a Federal Register notice soliciting comments on the collection of information was published on April 8, 2015 (80 FR 18863). No comments were received. This notice provides the public with an additional 30 days in which to comment on the following information collection activity.

II. Data

(1) Title: Claim for Relocation Payments—Residential, DI-381 and Claim for Relocation Payments—Nonresidential, DI-382.

OMB Control Number: 1084-0010.

Current Expiration Date: September 30, 2015.

Type of Review: Renewal of an existing collection.

Affected Entities: Individuals and businesses who are displaced because of Federal acquisitions of their real property.

Frequency of response: As needed.

(2) Annual reporting and record keeping burden.

Estimated Number of Annual Responses: 24.

Total Annual Reporting per Respondent: 50 minutes.

Total Annual Burden Hours: 20 hours.

(3) Description of the need and use of the information: The information required is obtained through application made by the displaced person or business to the funding agency for determination as to the specific amount of monies due under the law. The forms, through which application is made, require specific information since the Uniform Relocation Assistance and Real Property Acquisition Act allows for various amounts based upon each actual circumstance. Failure to make application to the agency would eliminate any basis for payment of claims.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of Acquisition and Property Management at the contact information provided in the ADDRESSES section. A valid picture identification is required for entry into the Department of the Interior, 1849 C Street NW., Washington, DC 20240.

An agency may not conduct or sponsor, and a person is not required to respond to, a collection of information unless it displays a currently valid Office of Management and Budget control number.

Dated: September 4, 2015.
Debra E. Sonderman,
Director, Office of Acquisition and Property Management.

[FR Doc. 2015-23200 Filed 9-15-15; 8:45 am]

BILLING CODE 4334-63-P